DEPARTMENT OF COMMERCE

National Oceanic and Atmospheric Administration

Agency Information Collection Activities; Submission to the Office of Management and Budget (OMB) for Review and Approval; Comment Request; NMFS Observer Programs' Information That Can Be Gathered Only Through Questions

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before October 30, 2023.

ADDRESSES: Interested persons are invited to submit written comments to Adrienne Thomas, NOAA PRA Officer, at NOAA.PRA@noaa.gov. Please reference OMB Control Number 0648-0593 in the subject line of your comments. Do not submit Confidential Business Information or otherwise sensitive or protected information.

FOR FURTHER INFORMATION CONTACT: Requests for additional information or specific questions related to collection activities should be directed to Ken Keene, National Observer Program Coordinator, NOAA, 1315 East-West Highway, Silver Spring, MD 20910, (301-427-8158), and kenneth.keene@noaa.gov.

SUPPLEMENTARY INFORMATION:

I. Abstract

This is a request for revision and extension of an existing information collection.

The National Oceanic and Atmospheric Administration (NOAA), National Marine Fisheries Service (NMFS) deploys fishery observers on United States (U.S.) commercial fishing vessels and to fish processing plants in order to collect biological and economic data. NMFS has at least one observer program in each of its five Regions. These observer programs provide the most reliable and effective method for obtaining information that is critical for the conservation and management of living marine resources. Observer programs primarily obtain information through direct observations by employees or agents of NMFS; and such observations are not subject to the Paperwork Reduction Act (PRA). However, observer programs also collect the following information that requires clearance under the PRA: (1) Standardized questions of fishing vessel captains/crew or fish processing plant managers/staff, which include gear and performance questions, safety questions, and trip costs, crew size and other economic questions; (2) questions asked by observer program staff/contractors to plan observer deployments; (3) forms that are completed by observers and that fishing vessel captains are asked to review and sign; (4) questionnaires to evaluate observer performance; and (5) a form to certify that a fisherman is the permit holder when requesting observer data from the observer on the vessel.

The information collected will be used to: (1) Monitor catch and bycatch in federally managed commercial fisheries; (2) understand the population status and trends of fish stocks and protected species, as well as the interactions between them; (3) determine the quantity and distribution of net benefits derived from living marine resources; (4) predict the biological, ecological, and economic impacts of existing management action and proposed management options; and (5) ensure that the observer programs can safely and efficiently collect the information required for the previous four uses. In particular, these biological and economic data collection programs contribute to legally mandated analyses required under the Magnuson-Stevens Fishery Conservation and Management Act (MSA), the Endangered Species Act (ESA), the Marine Mammal Protection Act (MMPA), the National Environmental Policy Act (NEPA), the Regulatory Flexibility Act (RFA), Executive Order 12866 (E.O. 12866), as well as a variety of state statutes. The confidentiality of the data will be protected as required by the MSA, section 402(b).

This collection will be revised as follows. First is the expansion of observers to include an additional fishery. The Southeast region will begin sending observers out on Southeast reef fish fishery trips and thus needs to add this fishery to this collection. Second, NOAA is combining the Southeast observer efforts into one program. The third change is the West Coast Groundfish Observer Program (WCGOP) would like to start collecting the names of crew members within their observer logbooks. The data will be recorded on paper, scanned in, and stored according to vessel name. This information will only be accessed if there is an enforcement issue. The final change is also within the West Coast Groundfish Observer Program. They have introduced a new phone app that captains are using to declare upcoming fishing trips and NMFS is using to let them know if they have been selected for observer coverage. Other observer programs are also working on converting to smart phone apps, but they have not yet been implemented.

II. Method of Collection

The information will be collected by (1) NMFS observers while they are deployed on a vessel to observe a particular fishing trip; questions will be asked in-person to the captain, crew and/or owner (if on board the vessel) during the course of the observed trip; (2) via mail through follow up surveys of economic information not available during the trip; (3) via telephone or mail survey by the observer program staff or contractor planning to deploy observers; or (4) via feedback questionnaires mailed to the vessel owners or captains to evaluate observer performance.

III. Data

OMB Control Number: 0648-0593.

Form Number: None.

Type of Review: Regular submission.

Affected Public: Business or other for-profit organizations.

Estimated Number of Respondents: 13,212.

Estimated Time per Response: Northeast Fisheries Observer Program and At-Sea Monitors, 117 minutes; North Pacific Groundfish and Halibut Observer Program and Processing Plants, 56 minutes; Alaska Marine Mammal Observer Program, 15 minutes; West Coast Groundfish Observer Program, 31 minutes; Pacific Islands Region Observer Program, 86 minutes; Southeast Fishery Observer Program, 55 minutes; West Coast Region Observer Program, 62 minutes. Information will be collected for observed fishing trips and deployments to fish processing plants; therefore, there will be multiple responses for some respondents, but counted as one response per trip or plant visit.

Estimated Total Annual Burden Hours: 16,253.

Estimated Total Annual Cost to Public: $459,631.

Respondent's Obligation: Voluntary.

Legal Authority: The primary authority for NMFS to place observers on fishing vessels is included in the Magnuson-Stevens Fishery Conservation and Management Act (MSA), the Endangered Species Act (ESA), and the Marine Mammal Protection Act (MMPA).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-18815 Filed 8-30-23; 8:45 am]

BILLING CODE 3510-22-P